DEPARTMENT OF LABOR

Proposed Information Collection Request for the ETA 218, Benefit Rights and Experience Report; Comment Request on Extension Without Change

AGENCY: Employment and Training Administration.

ACTION: Notice.

SUMMARY: The Department of Labor, as part of its continuing effort to reduce paperwork and respondent burden, conducts a preclearance consultation program to provide the general public and Federal agencies with an opportunity to comment on proposed and/or continuing collection of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

A copy of the proposed information collection request (ICR) can be obtained by contacting the office listed below in the addresses section of this notice or by accessing: http://www.doleta.gov/OMBCN/OMBControlNumber.cfm.

DATES: Written comments must be submitted to the office listed in the addresses section below on or before March 26, 2010.

ADDRESSES: Send comments to Scott Gibbons, U.S. Department of Labor, Employment and Training Administration, Office of Unemployment Insurance, 200 Constitution Avenue, NW., Frances Perkins Bldg., Room S-4531, Washington, DC 20210, telephone number (202) 693-3008 (this is not a toll-free number) or by e-mail: gibbons.scott@dol.gov.

SUPPLEMENTARY INFORMATION:

I. Background

Attachment to the labor force, usually measured as amount of past wages earned, is used to determine eligibility for state unemployment compensation programs. The data in the ETA 218, Benefit Rights and Experience Report, includes numbers of individuals who were and were not monetarily eligible, those eligible for the maximum benefits, those eligible based on classification by potential duration categories, and those exhausting their full entitlement as classified by actual duration categories. These data are used by the National Office in solvency studies, cost estimating and modeling, and assessment of state benefit formulas.

II. Desired Focus of Comments

Currently, the Department of Labor is soliciting comments concerning the proposed extension for the collection of the ETA 218, Benefit Rights and Experience report. Comments are requested that:

• Evaluate whether the proposed collection of information is necessary for the proper performance of the functions of the agency, including whether the information will have practical utility;

• Evaluate the accuracy of the Agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

The continued collection of the information contained on the ETA 218 report is necessary to enable the Office of Unemployment Insurance to continue evaluating state benefit formulas and the establishment of new benefit years.

Type of Review: Extension without change.

Agency: Employment and Training Administration (ETA).

Title: Benefit Rights and Experience.

OMB Number: 1205-0177.

Agency Number: ETA 218.

Affected Public: State and Local Governments.

Total Respondents: 53.

Frequency: Quarterly.

Total Responses: 580.

Average Time per Response: 0.5 hours.

Cite/Reference | Total respondents | Frequency | Total responses | Average time per response | Burden
ETA 218 Regular | 53 | Quarterly | 212 | .5 hour | 106 hrs.
ETA 218 Extended Benefits | 39 | Quarterly | 156 | .5 hour | 78 hrs.
ETA 218 Emergency Unemployment Compensation | 53 | Quarterly | 212 | .5 hour | 106 hrs.
Totals |  |  | 580 |  | 290 hrs.

Total Estimated Burden Hours: 290 hours.

Total Burden Cost (capital/startup): $0.

Total Burden Cost (operating/maintaining): $0.

Comments submitted in response to this notice will be summarized and/or included in the request for Office of Management and Budget approval of the information collection request; they will also become a matter of public record.

Dated: January 19, 2010.
Jane Oates,
Assistant Secretary, Employment and Training Administration.

[FR Doc. 2010-1248 Filed 1-22-10; 8:45 am]

BILLING CODE 4510-FW-P